DEPARTMENT OF DEFENSE

Department of the Air Force

Privacy Act of 1974; System of Records

AGENCY: Department of the Air Force, DoD.

ACTION: Notice to amend systems of records.

SUMMARY: The Department of the Air Force is amending two systems of records notices in its existing inventory of record systems subject to the Privacy Act of 1974, (5 U.S.C. 552a), as amended.

DATES: This proposed action will be effective without further notice on April 28, 2003 unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: March 19, 2003.
Patricia L. Toppings,
Alternate OSD Federal Register Liaison Officer, Department of Defense.

F036 AETC M

SYSTEM NAME:

Air University Academic Records (June 11, 1997, 62 FR 31793).

CHANGES:

* * * * *

CATEGORIES OF INDIVIDUALS COVERED BY THE SYSTEM:

Delete entry and replace with “Graduates and students currently or previously enrolled in Air Force Institute of Technology (AFIT), Air University (AU) schools or Air Force Institute of Advanced Distributed Learning (formerly, ECI).”

* * * * *

AUTHORITY FOR MAINTENANCE OF THE SYSTEM:

Delete entry and replace with “10 U.S.C. 8013, Secretary of the Air Force; Air Force Instruction 36-2201, Air Force Training Program; Air Force Instruction 36-2301, Professional Military Education; and E.O. 9397 (SSN).”

* * * * *

STORAGE:

Replace “microform and on computer at Extension Course Institute” with “in file folders, microform, and on computer at Maxwell Air Force Base.”

RETENTION AND DISPOSAL:

Replace “ECI” with “Maxwell”.

* * * * *

F036 AETC M

SYSTEM NAME:

Air University Academic Records.

SYSTEM LOCATION:

Air University, Maxwell Air Force Base, AL 36112-6337.

Air Force Institute of Technology/RR, Wright-Patterson Air Force Base, OH 45433-7765.

CATEGORIES OF INDIVIDUALS COVERED BY THE SYSTEM:

Graduates and students currently or previously enrolled in Air Force Institute of Technology (AFIT), Air University (AU) schools or Air Force Institute of Advanced Distributed Learning (formerly, ECI).

CATEGORIES OF RECORDS IN THE SYSTEM:

Education records which include transcripts; test scores; completion/noncompletion status; training reports; rating of distinguished, outstanding or excellent graduate as appropriate; and other documents associated with academic records.

AUTHORITY FOR MAINTENANCE OF THE SYSTEM:

10 U.S.C. 8013, Secretary of the Air Force; Air Force Instruction 36-2201, Air Force Training Program; Air Force Instruction 36-2301, Professional Military Education; and E.O. 9397 (SSN).

PURPOSE(S):

Individuals seeking academic or certification credit for courses completed may request applicable Registrar to send a record of courses completed to school or activity desired.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD “Blanket Routine Uses” published at the beginning of the Air Force's compilation of systems of records notices apply to this system.

Policies and practices for storing, retrieving, accessing, retaining, and disposing of records in the system:

STORAGE:

Maintained in file folders at Air Force Institute of Technology, and in file folders, microform, and on computer at Maxwell Air Force Base.

RETRIEVABILITY:

Retrieved by name and Social Security Number.

SAFEGUARDS:

Records are accessed by custodian of the record system and by person(s) responsible for servicing the record system in performance of their official duties and who are properly screened and cleared for need-to-know. Records are stored in vaults and locked cabinets or rooms and are controlled by personnel screening.

RETENTION AND DISPOSAL:

Retained for 30 years or until no longer required at Maxwell, and master transcripts of resident schools are kept 50 years at AFIT.

SYSTEM MANAGER(S) AND ADDRESS:

Registrar, Air Force Institute of Technology, Wright-Patterson Air Force Base, OH 45433-7765; and Air University Registrar, Maxwell Air Force Base, AL 36112-6337.

NOTIFICATION PROCEDURE:

Individuals seeking to determine whether information about themselves is contained in this system should address written inquiries to or visit the Registrar, Air Force Institute of Technology, Wright-Patterson Air Force Base, OH 45433-7765; Air University Registrar, Maxwell Air Force Base, AL 36112-6337.

Include full name, Social Security Number and class designation. Individuals may visit Office of the Registrar. Identification is required.

RECORD ACCESS PROCEDURES:

Individuals seeking access to information about themselves contained in this system should address written inquiries to or visit the Registrar, Air Force Institute of Technology, Wright-Patterson Air Force Base, OH 45433-7765; Air University Registrar, Maxwell AFB AL 36112-6337.

Include full name, Social Security Number and class designation. Individuals may visit Office of the Registrar. Identification is required.

CONTESTING RECORD PROCEDURES:

The Air Force rules for accessing records, and for contesting contents and appealing initial agency determinations are published in Air Force Instruction 37-132; 32 CFR part 806b; or may be obtained from the system manager.

RECORD SOURCE CATEGORIES:

Information obtained from educational institutions, source documents such as reports, testing agencies, student, and on-the-job training officials.

EXEMPTIONS CLAIMED FOR THE SYSTEM:

None.

F036 AETC V

SYSTEM NAME:

Potential Faculty Rating System (June 11, 1997, 62 FR 31793).

CHANGES:

* * * * *

AUTHORITY FOR MAINTENANCE OF THE SYSTEM:

Delete entry and replace with ‘10 U.S.C. 8013, Secretary of the Air Force and Air Force Instruction 36-2301, Professional Military Education.’

STORAGE:

Delete entry and replace with ‘Maintained on computers and computer output products.’

SAFEGUARDS:

Delete entry and replace with ‘Records are accessed by person(s) responsible for servicing the record system in performance of their official duties and are secured using password control. The system is protected by the base firewall and database access security.’

RETENTION AND DISPOSAL:

Delete from entry ‘tearing into pieces, shredding, pulping, macerating, or burning’ and add ‘deleting from database.’

* * * * *

F036 AETC V

SYSTEM NAME:

Potential Faculty Rating System.

SYSTEM LOCATION:

Squadron Officer School, 125 Chennault Circle, Maxwell Air Force Base, AL 36112-6430.

CATEGORIES OF INDIVIDUALS COVERED BY THE SYSTEM:

Former Squadron Officer School students being considered for faculty duty.

CATEGORIES OF RECORDS IN THE SYSTEM:

Individual rating of students.

AUTHORITY FOR MAINTENANCE OF THE SYSTEM:

10 U.S.C. 8013, Secretary of the Air Force and Air Force Instruction 36-2301, Professional Military Education.

PURPOSE(S):

Used to evaluate individuals for potential assignment as faculty members.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD “Blanket Routine Uses” published at the beginning of the Air Force’s compilation of systems of records notices apply to this system.

Policies and practices for storing, retrieving, accessing, retaining, and disposing of records in the system:

STORAGE:

Maintained on computers and computer output products.

RETRIEVABILITY:

Retrieved by name.

SAFEGUARDS:

Records are accessed by person(s) responsible for servicing the record system in performance of their official duties and are secured using password control. The system is protected by the base firewall and database access security.

RETENTION AND DISPOSAL:

Retained in office files until superseded, obsolete, no longer needed for reference, or on inactivation, then destroyed by deleting from database.

SYSTEM MANAGER(S) AND ADDRESS:

Director of Student Operations, Squadron Officer School, 125 Chennault Circle, Maxwell Air Force Base, AL 36112-6430.

NOTIFICATION PROCEDURE:

Individuals seeking to determine whether information about themselves is contained in this system should address written inquiries to or visit the Director of Student Operations, Squadron Officer School, 125 Chennault Circle, Maxwell Air Force Base, AL 36112-6430.

Requests should include the individual's name and Social Security Number. Individuals may visit office of the system manager and present Military ID Card.

RECORD ACCESS PROCEDURES:

Individuals seeking access to information about themselves contained in this system should address written inquiries to or visit the Director of Student Operations, Squadron Officer School, 125 Chennault Circle, Maxwell Air Force Base, AL 36112-6430.

Requests should include the individual's name and Social Security Number.

CONTESTING RECORD PROCEDURES:

The Air Force rules for accessing records, and for contesting contents and appealing initial agency determinations are published in Air Force Instruction 37-132; 32 CFR part 806b; or may be obtained from the system manager.

RECORD SOURCE CATEGORIES:

Information obtained from source documents such as reports.

EXEMPTIONS CLAIMED FOR THE SYSTEM:

None.

[FR Doc. 03-7102 Filed 3-26-03; 8:45 am]

BILLING CODE 5001-08-P